DEPARTMENT OF HOMELAND SECURITY

Federal Emergency Management Agency

[Docket ID FEMA-2023-0002; Internal Agency Docket No. FEMA-B-2303]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before May 1, 2023.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2303, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Federal Emergency Management Agency, Department of Homeland Security.

Community | Community map repository address
Craighead County, Arkansas and Incorporated Areas
Project: 18-06-0001S Preliminary Date: June 16, 2022
City of Jonesboro | City Hall, 300 South Church Street, Jonesboro, AR 72401.
Unincorporated Areas of Craighead County | Craighead County Annex, 511 Union, Room 119, Jonesboro, AR 72401.
Black Hawk County, Iowa and Incorporated Areas
Project: 17-07-0295S Preliminary Date: August 5, 2022
City of Cedar Falls | City Hall, 220 Clay Street, Cedar Falls, IA 50613.
City of La Porte City | City Hall, 202 Main Street, La Porte City, IA 50651.
City of Waterloo | City Hall, Planning and Zoning Department, 715 Mulberry Street, Waterloo, IA 50703.
Unincorporated Areas of Black Hawk County | Black Hawk County Courthouse, 316 East 5th Street, Waterloo, IA 50703.
Roosevelt County, New Mexico and Incorporated Areas
Project: 20-06-0114S Preliminary Date: August 9, 2022
Unincorporated Areas of Roosevelt County | Roosevelt County Courthouse, Planning Department, 109 West 1st Street, Portales, NM 88130.
Village of Causey | Roosevelt County Courthouse, Planning Department, 109 West 1st Street, Portales, NM 88130.
Village of Dora | Roosevelt County Courthouse, Planning Department, 109 West 1st Street, Portales, NM 88130.
Bertie County, North Carolina and Incorporated Areas
Project: 12-04-8614S Preliminary Date: September 30, 2021
Town of Askewville | Bertie County Inspection Department, 106 Dundee Street, Windsor, NC 27983.
Town of Colerain | Town Hall, 101 B Winton Street, Colerain, NC 27924.
Town of Lewiston-Woodville | Town Hall, 103 West Church Street, Lewiston-Woodville, NC 27849.
Town of Windsor | Building Inspections Department, 128 South King Street, Windsor, NC 27983.
Unincorporated Areas of Bertie County | Bertie County Inspection Department, 106 Dundee Street, Windsor, NC 27983.
Martin County, North Carolina and Incorporated Areas
Project: 12-04-8614S Preliminary Date: September 30, 2021
Unincorporated Areas of Martin County | Martin County Building Inspections Department, 205 East Main Street, Williamston, NC 27892.
Pitt County, North Carolina and Incorporated Areas
Project: 12-04-8614S Preliminary Date: September 30, 2021
Unincorporated Areas of Pitt County | Pitt County Planning Department, 1717 West 5th Street, Greenville, NC 27834.
Washington County, North Carolina and Incorporated Areas
Project: 12-04-8614S Preliminary Date: September 30, 2021
Town of Creswell | Town Hall, 104 South 6th Street, Suite 68, Creswell, NC 27928.
Town of Plymouth | Washington County Permits, Inspections, and Emergency Management Department, 205 East Main Street, Plymouth, NC 27962.
Town of Roper | Mayor's Office, 301 West Buncombe Street, Roper, NC 27970.
Unincorporated Areas of Washington County | Washington County Permits, Inspections, and Emergency Management Department, 205 East Main Street, Plymouth, NC 27962.
Tulsa County, Oklahoma and Incorporated Areas
Project: 18-06-0010S Preliminary Date: August 26, 2022
City of Bixby | Public Works Dawes Building, 113 West Dawes Avenue, Bixby, OK 74008.
City of Broken Arrow | Operations Building, 485 North Poplar Avenue, Broken Arrow, OK 74012.
City of Tulsa | Stormwater Design Office, 2317 South Jackson Avenue, Suite 302, Tulsa, OK 74107.
Unincorporated Areas of Tulsa County | Tulsa County Headquarters, 218 West 6th Street, Suite 210, Tulsa, OK 74119.
Smith County, Tennessee and Incorporated Areas
Project: 20-04-0039S Preliminary Date: July 28, 2021
Town of Carthage | Municipal Building, 314 Spring Street, Carthage, TN 37030.
Town of Gordonsville | City Hall, 63 East Main Street, Gordonsville, TN 38563.
Town of South Carthage | South Carthage Town Hall/Municipal Building, 106 South Main Street, Carthage, TN 37030.
Unincorporated Areas of Smith County | Smith County Planning Commission, 303 High Street North, Carthage, TN 37030.
Victoria County, Texas and Incorporated Areas
Project: 15-06-0744S Preliminary Date: September 22, 2022
City of Victoria | 700 Main Center—Development and Permitting Center, 702 North Main Street, Suite 128, Victoria, TX 77901.
Unincorporated Areas of Victoria County | Victoria County, Dr. Pattie Dodson Public Health Center, 2805 North Navarro Street, Suite 106, Victoria, TX 77901.

[FR Doc. 2023-01886 Filed 1-30-23; 8:45 am]

BILLING CODE 9110-12-P